DEPARTMENT OF COMMERCE

National Oceanic and Atmospheric Administration

RIN 0648-XV040

North Pacific Fishery Management Council; Public Meeting

AGENCY: National Marine Fisheries Service (NMFS), National Oceanic and Atmospheric Administration (NOAA), Commerce.

ACTION: Notice of public meeting.

SUMMARY: The North Pacific Fishery Management Council (Council) Groundfish Plan Teams will meet September 16, 2019 through September 19, 2019.

DATES: The meetings will be held on Monday, September 16, 2019, from 1 p.m. to 4 p.m.; Tuesday, September 17, 2019, from 9 a.m. to 5 p.m.; Wednesday, September 18, 2019, from 9 a.m. to 5 p.m.; and Thursday, September 19, 2019, from 9 a.m. to 12 p.m., Pacific Standard Time.

ADDRESSES: The meetings will be held at the Alaska Fishery Science Center in the Traynor Room 2076, Room 2079, and the Observer Training Room 1055, 7600 Sand Point Way NE, Building 4, Seattle, WA 98115.

Council address: North Pacific Fishery Management Council, 605 W 4th Ave., Suite 306, Anchorage, AK 99501-2252; telephone: (907) 271-2809.

FOR FURTHER INFORMATION CONTACT: Steve MacLean or Sara Cleaver, Council staff; telephone: (907) 271-2809.

SUPPLEMENTARY INFORMATION:

Agenda

Monday, September 16, 2019

The BSAI and GOA Groundfish Plan Teams will meet with the Crab Plan Team to review and discuss issues of importance to all three Plan Teams, including but not limited to the Plan Team Handbook, ESP/Prioritization, PEEC workshop report, Social Science Plan Team report, Bering Sea FEP, ESR Climate Overview, and VAST.

The Agenda is subject to change, and the latest version will be posted at https://meetings.npfmc.org/Meeting/Details/844 prior to the meeting, along with meeting materials.

Tuesday, September 17, 2019 Through Thursday, September 19, 2019

The Plan Teams will review the preliminary stock assessments for Groundfish and receive reports including but not limited to 2019 Survey Estimates, research priorities, GOA and EBS survey, EBS/NBS Shelf trawl survey, longline survey, Observer EM, DMRs, Economic Stock assessment and Fishery Evaluation (SAFE), AFSC Genomics Activity Plan, Risk Table, and Marine Mammal updates.

The Agenda is subject to change, and the latest version will be posted at https://meetings.npfmc.org/Meeting/Details/843 prior to the meeting, along with meeting materials.

Public Comment

Public comment letters will be accepted and should be submitted electronically to https://meetings.npfmc.org/Meeting/Details/843 or through the mail: North Pacific Fishery Management Council, 605 W 4th Ave., Suite 306, Anchorage, AK 99501-2252. In-person oral public testimony will be accepted at the discretion of the chairs.

Special Accommodations

These meetings are physically accessible to people with disabilities. Requests for sign language interpretation or other auxiliary aids should be directed to Shannon Gleason at (907) 271-2809 at least 7 working days prior to the meeting date.

Dated: August 22, 2019.
Tracey L. Thompson,
Acting Deputy Director, Office of Sustainable Fisheries, National Marine Fisheries Service.

[FR Doc. 2019-18462 Filed 8-26-19; 8:45 am]

BILLING CODE 3510-22-P